DEPARTMENT OF AGRICULTURE

Forest Service

Notice of Proposed New Fee Sites

AGENCY: Forest Service, Agriculture (USDA).

ACTION: Notice of proposed new fee sites.

SUMMARY: The Wallowa-Whitman National Forest is proposing to implement new fees at twenty-two sites listed in the Supplementary Information. The Federal Recreation Lands Enhancement Act directed the Secretary of Agriculture to publish a six-month advance notice in the Federal Register whenever new recreation fee areas are established. An analysis of the nearby private and public offerings with similar amenities shows that the proposed fees are reasonable and typical of similar sites in the area.

DATES: The new fees will be implemented no earlier than six months following publication of this notice in the Federal Register.

ADDRESSES: Wallowa-Whitman National Forest, Attention: Recreation Program Manager, 1550 Dewey Ave., Suite A, Baker City, OR 97814.

FOR FURTHER INFORMATION CONTACT: Teresa Fraser, Recreation Fee Coordinator, 541-805-2769 or sm.fs.wwnf-webmail@usda.gov.

SUPPLEMENTARY INFORMATION: This fee proposal was vetted through the Forest Service public involvement process which included announcement of the proposal in local and regional media outlets, on the Forest internet and social media sites, and briefing Federal and local elected officials. The results of these efforts were presented to the local Resource Advisory Committee (RAC) for evaluation and recommendation to implement the new recreation fees which were approved.

Reasonable fees, paid by users of these sites, will help ensure the Forest can continue maintaining and improving recreation sites like this for future generations. Fees at the Moss Springs Guard Station will be $60/night, and fees will be $80/night at the Lostine Guard Station. The following day use site fees will be $5/day and will honor the full suite of America the Beautiful Interagency passes, as well as the Northwest Forest pass: Elkhorn Crest Trailhead, Hat Point Trailhead, Heavens Gate Trailhead, Upper Snake River Trailhead, and Windy Saddle Trailhead. Fees at the following campgrounds will be $10/night: Black Lake Campground, Boulder Park Campground, Boundary Campground, Canyon Forest Camp, Coyote Campground, Catherine Creek Campground, Saddle Creek Campground, Seven Devils Campground, Spring Creek Campground, Twin Lakes Campground, Two Color Campground, Umapine Campground, and Windy Saddle Horse Camp. Mcbride and Dougherty Campground fees will be $15/.

People wanting to reserve these campgrounds and cabins will be able to do so through Recreation.gov, at www.recreation.gov or by calling 1-877-444-6777.

Dated: October 1, 2021.
Sandra Watts,
Acting Associate Deputy Chief, National Forest System.

[FR Doc. 2021-21818 Filed 10-5-21; 8:45 am]

BILLING CODE 3411-15-P